DEPARTMENT OF TRANSPORTATION

Federal Aviation Administration

14 CFR Part 39

[Docket No. FAA-2009-1118; Directorate Identifier 2008-SW-60-AD; Amendment 39-16126; AD 2009-25-07]

RIN 2120-AA64

Airworthiness Directives; Eurocopter France Model EC120B Helicopters

AGENCY: Federal Aviation Administration (FAA), Department of Transportation (DOT).

ACTION: Final rule; request for comments.

SUMMARY: We are adopting a new airworthiness directive (AD) for the Eurocopter France (ECF) Model EC120B helicopters. This AD results from a mandatory continuing airworthiness information (MCAI) AD issued by the European Aviation Safety Agency (EASA), which is the Technical Agent for the Member States of the European Community. The MCAI AD states that operators have reported that latching push buttons on the Emergency Floatation Gear Lighting and Ancillary Control Unit (LACU) used to arm the emergency floatation gear are unreliable, and the `FLOAT ARM' pushbutton does not latch in the depressed (LACU armed) position. These actions are intended to prohibit flight over water if a functional test indicates that the emergency floatation gear cannot be armed, which would preclude deployment of the floats in an emergency water ditching that could result in helicopter damage and a fatality.

DATES: This AD becomes effective on December 28, 2009.

We must receive comments on this AD by February 9, 2010.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: DOT/FAA Southwest Region, J. R. Holton, Jr., ASW-112, Aviation Safety Engineer, Rotorcraft Directorate, Safety Management Group, 2601 Meacham Blvd., Fort Worth, Texas 76137, telephone (817) 222-4964, fax (817) 222-5961.

SUPPLEMENTARY INFORMATION:

Discussion

EASA, which is the Technical Agent for the Member States of the European Community, has issued EASA AD No. 2008-0177-E, dated September 19, 2008, to correct an unsafe condition for the ECF Model EC120B helicopters.

The MCAI AD states that operators have reported unreliability of the latching push buttons on the Emergency Floatation LACU including the `FLOAT ARM' pushbutton used to arm the emergency floatation gear and failure of the light to illuminate properly. Investigations have revealed the anomaly may be due to the bonding of these pushbuttons. Design improvements for the pushbuttons are currently in progress. The MCAI AD states that a repetitive in-flight functional check of the `FLOAT ARM' pushbutton before flying over water is necessary. If the pushbutton fails to latch in the depressed position, the MCAI AD prohibits further flight over water until the `FLOAT ARM' pushbutton is replaced with an airworthy unit. These actions are intended to prohibit flight over water if a functional test indicates that the emergency floatation gear cannot be armed, which would preclude deployment of the floats in an emergency water ditching that could result in helicopter damage and a fatality.

You may obtain further information by examining the MCAI AD and any related service information in the AD docket.

Related Service Information

ECF has issued Emergency Alert Service Bulletin No. 04A007, on September 18, 2008 (ASB). The ASB specifies a pre-flight check before each flight. The ASB also specifies arming the emergency floatation gear by pressing the “FLOAT ARM” pushbutton and reducing speed in accordance with the Rotorcraft Flight Manual Supplement (RFMS) 9.17 to determine if both lights remain lit. If both lights remain lit, the ASB specifies continuing the flight. If both lights do not remain lit, the ASB specifies that flying over water is prohibited and specifies replacing the pushbutton with an airworthy pushbutton before the next flight over water. The actions described in the MCAI AD are intended to correct the same unsafe condition as that identified in the ASB.

FAA's Evaluation and Unsafe Condition Determination

The ECF Model EC120B helicopter has been approved by the aviation authority of France and is approved for operation in the United States. Pursuant to our bilateral agreement with France, EASA, their technical agent, has notified us of the unsafe condition described in the MCAI AD. We are issuing this AD because we evaluated all information provided by EASA and determined the unsafe condition exists and is likely to exist or develop on other helicopters of the same type design.

Differences Between This AD and the MCAI AD

We require adding the limitations to the Limitations section of the RFMS not the basic Rotorcraft Flight Manual. We also allow inserting a copy of this AD in the RFMS or making pen and ink changes to the language in the RFMS. Also, we clarified the wording used to describe the functional check.

Costs of Compliance

We estimate that this AD will affect about 153 Model EC120B helicopters of U.S. registry. We also estimate that it will take about 1 work-hour per helicopter to replace the pushbutton. The cost of revising the limitations section of the RFMS and of the pre-flight functional check is negligible. The average labor rate is $80 per work-hour. Required parts will cost about $190 per pushbutton. Based on these figures, we estimate the cost of this AD on U.S. operators will be $41,310 per helicopter, assuming the pushbutton is replaced on each helicopter.

FAA's Determination of the Effective Date

An unsafe condition exists that requires the immediate adoption of this AD. We find that the risk to the flying public justifies waiving notice and comment prior to adoption of this rule because revising the RFMS is required before further flight and a pre-flight functional check before each flight over water. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-1118; Directorate Identifier 2008-SW-60-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-25-07 Eurocopter France: Amendment 39-16126. Docket No. FAA-2009-1118; Directorate Identifier 2008-SW-60-AD.

Effective Date

(a) This airworthiness directive (AD) becomes effective on December 28, 2009.

Other Affected ADs

(b) None.

Applicability

(c) This AD applies to Model EC120B helicopters, with an Emergency Floatation Gear Lighting and Ancillary Control Unit “LACU”, part number (P/N) 040101AB, installed, certificated in any category.

Reason

(d) The mandatory continuing airworthiness information (MCAI) AD states that operators have reported unreliability of the latching push buttons on the LACU including the `FLOAT ARM' pushbutton used to arm the emergency floatation gear and failure of the lights to illuminate properly. These actions are intended to prohibit flight over water if a functional test indicates that the emergency floatation gear cannot be armed, which would preclude deployment of the floats in an emergency water ditching that could result in helicopter damage or a fatality.

Actions and Compliance

(e) Required as indicated, unless already accomplished.

(1) Before further flight, amend the EC120B Rotorcraft Flight Manual Supplement (RFMS), Document #9-17 for the Emergency Floatation Gear Aerazur, by inserting a copy of this AD into the Limitations section of the RFMS or making pen and ink changes to that section as follows:

“Arm the emergency floatation gear by pressing the LACU ‘FLOAT ARM’ pushbutton.

—If both lights of the pushbutton remain lit, flight over water is permitted.

—If one or both lights of the pushbutton do not remain lit, FLIGHT OVER WATER IS PROHIBITED.”

(2) Before each flight over water, perform a functional check to determine whether flight over water is permitted under the Limitations section in paragraph (e)(1) of this AD. For purposes of this AD, “flight over water” means flight beyond the power-off gliding distance from shore. “Shore” is an area of land adjacent to the water and above the high water mark but does not include land area that is intermittently under water.

(3) If the LACU fails the functional check required by paragraph (e)(2) of this AD, place a placard over the “FLOAT ARM” pushbutton that reads “INOP.”

(4) The functional check required by paragraph (e)(2) may be performed by an owner/operator (pilot) holding at least a private pilot certificate because no special tools are required. The check must be entered into the aircraft records showing compliance with paragraph (e)(2) of this AD in accordance with the requirements of 14 CFR sections 43.11 and 91.417(a)(2)(v).

Differences Between This AD and the MCAI AD

(f) We require adding the limitations to the Limitations section of the RFMS not the basic RFM. We also allow inserting a copy of this AD in the RFMS or making pen and ink changes to the language in the RFMS. We changed the wording used to describe the functional check.

Other Information

(g) Alternative Methods of Compliance (AMOCs): The Manager, Safety Management Group, ATTN: DOT/FAA Southwest Region, J. R. Holton, Jr., ASW-112, Aviation Safety Engineer, Rotorcraft Directorate, 2601 Meacham Blvd., Fort Worth, Texas 76137, telephone (817) 222-4964, fax (817) 222-5961, has the authority to approve AMOCs for this AD, if requested using the procedures found in 14 CFR 39.19.

(h) Special flight permits may be issued for a single flight in accordance with sections 14 CFR 21.197 and 21.199 to operate the helicopter to a location where the requirements of this AD can be accomplished provided there are no passengers on board and the helicopter is not flown over water.

Related Information

(i) The European Aviation Safety Agency (EASA), which is the Technical Agent for the Member States of the European Community, EASA AD No. 2008-0177-E, dated September 19, 2008, and Eurocopter France Emergency Alert Service Bulletin No. 04A007, dated September 18, 2008, contain related information.

Joint Aircraft System/Component (JASC) Tracking Code

(j) JASC Code 2560: Emergency Equipment.

Issued in Fort Worth, Texas, on November 18, 2009.
Gary B. Roach,
Acting Manager, Rotorcraft Directorate, Aircraft Certification Service.

[FR Doc. E9-29426 Filed 12-10-09; 8:45 am]

BILLING CODE 4910-13-P